DEPARTMENT OF HOMELAND SECURITY

Coast Guard

33 CFR Parts 173, 174, 181, and 187

[Docket No. USCG-2003-14963]

RIN 1625-AB45

Changes to Standard Numbering System, Vessel Identification System, and Boating Accident Report Database

AGENCY: Coast Guard, DHS.

ACTION: Notice of proposed rulemaking.

SUMMARY: The Coast Guard proposes to amend its rules related to numbering of undocumented vessels and reporting of casualties. These changes would align and modernize terminology used in the Standard Numbering System (SNS), the Vessel Identification System (VIS), and casualty reporting; require validation of vessel hull identification numbers; require SNS vessel owners to provide personally identifiable information; and provide administrative flexibility for States. Together, the proposed changes would improve recreational boating safety efforts, enhance law enforcement capabilities, advance maritime security, and clarify requirements for all stakeholders.

DATES: Comments and related material must either be submitted to our online docket via http://www.regulations.gov on or before August 5, 2010 or reach the Docket Management Facility by that date. Comments sent to the Office of Management and Budget (OMB) on collection of information must reach OMB on or before August 5, 2010.

ADDRESSES: You may submit comments identified by docket number USCG-2003-14963 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

Collection of Information Comments: If you have comments on the collection of information discussed in section V.D of this NPRM, you must also send comments to the Office of Information and Regulatory Affairs (OIRA), Office of Management and Budget. To ensure that your comments to OIRA are received on time, the preferred methods are by e-mail to oira_submission@omb.eop.gov (include the docket number and “Attention: Desk Officer for Coast Guard, DHS” in the subject line of the e-mail) or fax at 202-395-6566. An alternate, though slower, method is by U.S. mail to the Office of Information and Regulatory Affairs, Office of Management and Budget, 725 17th Street, NW., Washington, DC 20503, ATTN: Desk Officer, U.S. Coast Guard.

FOR FURTHER INFORMATION CONTACT: If you have questions on this proposed rule, write, call or e-mail Mr. Jeff Ludwig at 2100 2nd St., SW. Stop 7581, Washington, DC 20593-7581; telephone 202-372-1061, or e-mail Jeffrey.A.Ludwig@uscg.mil. If you have questions on viewing or submitting material to the docket, call Renee V. Wright, Program Manager, Docket Operations, telephone 202-366-9826.

SUPPLEMENTARY INFORMATION:

Table of Contents for Preamble

I. Public Participation and Request for Comments

A. Submitting Comments

B. Viewing Comments and Documents

C. Privacy Act

D. Public Meeting

II. Abbreviations

III. Background

IV. Discussion of Proposed Rule

V. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Public Participation and Request for Comments

We encourage you to participate in this rulemaking by submitting comments and related materials to us. All comments received will be posted without change to http://www.regulations.gov and will include any personal information you provide.

A. Submitting Comments

If you submit a comment, please include the docket number for this rulemaking (USCG-2003-14963), indicate the specific section of this document to which each comment applies, and provide a reason for each suggestion or recommendation. You may submit your comments and material online or by fax, mail, or hand delivery, but please use only one of these means. We recommend that you include your name and a mailing address, an e-mail address, or a phone number in the body of your document so that we can contact you if we have questions regarding your submission.

To submit your comment online, go to http://www.regulations.gov, click on the “submit a comment” box, which will then become highlighted in blue. In the “Document Type” drop down menu select “Proposed Rule” and insert “USCG-2003-14963” in the “Keyword” box. Click “Search”; then click on the balloon shape in the “Actions” column. If you submit your comments by mail or hand delivery, submit them in an unbound format, no larger than 8½ by 11 inches, suitable for copying and electronic filing. If you submit comments by mail and would like to know that they have reached the Facility, please enclose a stamped, self-addressed postcard or envelope.

We will consider all comments and material received during the comment period and may change this proposed rule based on your comments.

B. Viewing Comments and Documents

To view comments, as well as documents mentioned in this preamble as being available in the docket, go to http://www.regulations.gov, click on the “read comments” box, which will then become highlighted in blue. In the “Keyword” box insert USCG-2003-14963 and click “Search.” Click the “Open Docket Folder” in the “Actions” column. If you do not have access to the internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation that allows you to use the Docket Management Facility.

C. Privacy Act

Anyone can search the electronic form of comments received into any of our dockets by the name of the individual submitting the comment (or signing the comment, if submitted on behalf of an association, business, labor union, etc.). You may review a Privacy Act notice regarding our public dockets in the January 17, 2008 issue of the Federal Register (73 FR 3316).

D. Public Meeting

We do not plan to hold a public meeting. But you may submit a request for one to the docket using one of the methods specified under ADDRESSES. In your request, explain why you believe a public meeting would be beneficial. If we determine that one would aid this rulemaking, we will hold one at a time and place to be announced by a later notice in the Federal Register.

II. Abbreviations

BARD Boating Accident Report Database

CFR Code of Federal Regulations

DHS Department of Homeland Security

FR Federal Register

HIN Hull Identification Number

NBSAC National Boating Safety Advisory Council

PII Personally Identifiable Information

§ Section symbol

SNS Standard Numbering System

U.S.C. United States Code

VIS Vessel Identification System

III. Background

Coast Guard regulations in 33 CFR parts 173 and 174 implement two statutory mandates relating to undocumented vessels equipped with propulsion machinery of any kind. First, the regulations provide for a Standard Numbering System (SNS) that assigns unique identification numbers to those vessels, as required by 46 U.S.C. 12302. Each State voluntarily uses the SNS to number vessels that are registered in that State.¹ Second, the regulations provide for the uniform reporting by each State of recreational vessel casualty and accident data, as required by 46 U.S.C. 6102. We maintain a Boating Accident Report Database (BARD) for this data.

¹ If a State does not have a numbering system consistent with the SNS, or does not issue identification numbers to vessels registered in that State, the Coast Guard issues those vessels identification numbers under the SNS. “State” is defined in 33 CFR 173.3 as “a State of the United States, the Commonwealth of Puerto Rico, the Virgin Islands, Guam, American Samoa, the Commonwealth of the Northern Mariana Islands, and the District of Columbia.”

We are also statutorily required to maintain a Vessel Identification System (VIS) that covers not only the undocumented vessels to which SNS applies, but also documented vessels and any vessel titled under State law (46 U.S.C. 12501). VIS makes vessel identification information available, for law enforcement or other purposes, to the Coast Guard and to States that voluntarily comply with its data sharing requirements. VIS was developed in coordination with relevant State agencies and became operational in 2007. To date, many States have opted to participate in VIS. VIS regulations appear in 33 CFR part 187.

Because of our role as the coordinator of the National Recreational Boating Safety Program, our leadership position in maritime law enforcement and maritime security efforts, and our partnership with other Federal and State agencies with similar responsibilities, we seek continual improvement in the efficiency and effectiveness of SNS, BARD, and VIS. This rulemaking proposes several changes that are intended to further those improvements. Many of the proposed changes were initially suggested by the National Boating Safety Advisory Council (NBSAC), a 21-member group that operates under the Federal Advisory Committee Act to advise the Coast Guard on recreational boating safety issues. NBSAC consists of seven representatives of State officials responsible for State boating safety programs; seven representatives of recreational vessel manufacturers and associated equipment manufacturers; and seven representatives of national recreational boating organizations and from the general public, at least five of whom must be representatives of national recreational boating organizations.

IV. Discussion of Proposed Rule

We propose the following changes. We intend to phase-in many of the most substantive proposed changes over three years, and we specifically invite public comment on whether that phase-in period is adequate.

Terminology alignment. We propose aligning the terminology used by SNS, BARD, and VIS to describe recreational vessels and their operation. This will leverage our ability to coordinate data from all three databases to facilitate boating safety, law enforcement, and maritime security purposes.

Terminology modernization and harmonization. We propose updating the terminology used by SNS, BARD, and VIS to reflect today's recreational boating environment. For example, we propose new language to recognize the increased use of personal watercraft, towed watersports, and pod drive propulsion systems; and updated terminology to describe how recreational vessels are operated. We will also harmonize language in our regulations with wording changes made in the 1983 revision of Title 46 of the U.S. Code.

Hull identification numbers (HINs). We propose requiring the States administering SNS to ensure that each SNS-registered vessel built after November 1, 1972, when the original HIN regulations took effect, has or obtains a valid HIN. Many vessels that are required to have a valid HIN either lack any HIN or have a HIN that does not comply with current requirements. This proposal is intended to help deter theft and improve law enforcement and maritime security capabilities by ensuring that law enforcement officers can readily identify vessels by their HIN and, in turn, identify their rightful owners.

Unique personal identifiers. For VIS vessel owners, we currently collect personally identifiable information (PII), like taxpayer identification numbers, as required by 46 U.S.C. 12501. This PII has high value for law enforcement and maritime security purposes because it provides unique information connecting individuals with the vessels they own. Additionally, 46 U.S.C. 12501(a)(2) and (b) require that the VIS contain the PII of the owners of vessels numbered under the SNS. Therefore, we propose requiring the collection of PII for SNS as well as VIS. This proposed change would align the SNS and VIS data elements that States must collect, which will facilitate law enforcement and maritime safety efforts by broadening and aligning the data available in these two systems, and may make it easier for States to decide to participate in VIS.

Administrative flexibility. We propose some changes that would provide additional administrative flexibility for States. For example, we propose adding waiver provisions to VIS regulations in 33 CFR 187.11. Waivers could allow a State to participate temporarily in VIS, despite the need for new State legislation or other action to bring the State into full compliance with our regulations, under a memorandum of agreement that sets conditions intended to ensure effective participation.

Table 1 shows how these changes would apply to specific sections of Title 33 of the CFR. It omits discussion of several non-substantive style or format changes made solely to improve clarity or internal organization.

Table 1—Changes Proposed for 33 CFR
CFR section affected | Proposed changes | Discussion
*Note: Substantive changes proposed for sections marked with an asterisk (*) in this table would be phased in over three years.
Purpose, § 173.1 | Clarify that Part 173 has preemptive effect over State or local regulation | Clarification.
Definitions, § 173.3 | Add or revise definitions | Align with substantive changes elsewhere in the proposal.
Vessel number required, § 173.15 | Substitute “State of principal operation” for “State in which the vessel is principally used.” | Modernize/harmonize terminology.
Other numbers prohibited, § 173.19 | Substitute “operate” for “use.” | Modernize/harmonize terminology.
Certificate of number required, § 173.21 | Substitute “operate” and “operated” for “use” and “used.” | Modernize/harmonize terminology.
Inspection of certificate, § 173.23 | Substitute “operating” for “using.” | Modernize/harmonize terminology.
Location of certificate of number, § 173.25 | Substitute “operate” for “use.” | Modernize/harmonize terminology.
Removal of number, § 173.33 | Substitute “operated” for “used.” | Modernize/harmonize terminology.
Coast Guard validation sticker, § 173.35 | Substitute “operate” for “use.” | Modernize/harmonize terminology.
Applicability, § 173.51 | Substitute “operated” for “used.” | Modernize/harmonize terminology.
Contents of report,* § 173.57 | Amend current section so that it remains in effect only until January of the year following the third anniversary of the final rule's taking effect | (c)(10), (c)(21)-(c)(24): Align and modernize/harmonize terminology.
| Add new (c), containing provisions that would take effect in January of the year following the third anniversary of the final rules's taking effect | (c)(14), (c)(16): Facilitate accident investigations by collecting information about the owners of damaged property and about fire extinguishers on vessels involved in accidents.
|  | The phase-in period allows adequate time for transition and ensures a uniform date for revising the data to be reported in all States.
Where to report, § 173.59 | Delete option of reporting accident elsewhere than in the State where the accident occurred | Require report to be filed where accident occurred because this has greater relevance than a report to the State of principal operation or of certificate issuance.
Application for and issuance of certificate of number, § 173.71 | Authorize issuance of original or duplicate certificates | Clarify authority and make it explicit. Modernize/harmonize terminology.
Duplicate certificate of number, § 173.73 | Remove section | Transfer substance to § 173.71.
Validity of certificate of number, § 173.77 | Substitute “operated” for “used.” | Modernize/harmonize terminology.
Issuing authorities and reporting authorities, 33 CFR Part 173, Appendix A | Substitute “operation” for “use.” | Modernize/harmonize terminology.
Applicability, § 174.1 | Clarify that Part 174 has preemptive effect over State or local regulation | Clarification.
Definitions, § 174.3 | Add or revise definitions | Align with substantive changes elsewhere in the proposal.
Verification of hull identification number,* § 174.16 | Require States to verify vessel's compliance with HIN requirements, or to assign valid HIN, using methods of the State's choice | Per text discussion of HINs.
| Allow States up to three years to implement the changes | Effective date is intended to give the states up to three years to implement the changes. States will have up to three additional years to update boat registration information depending on registration cycle.
Contents of application for certificate of number,* § 174.17 | Require unique personal identifier | Per text discussion of unique personal identifiers. Align and modernize/harmonize terminology.
| (c) Allow States up to three years to implement the changes | Up to three years after final rule for States to implement changes.
|  | Up to three additional years for States to update boat registration.
Contents of a certificate of number,* § 174.19 | Delete current option for owners of vessels with HINs to omit information about the vessel's make, manufacture date, length, type, hull material, propulsion method, and fuel; and make other minor changes | Eliminate option, to facilitate data verification for law enforcement and maritime security purposes by ensuring that full information is available for enforcement or security personnel. Align and modernize/harmonize terminology.
| Allow States up to three years to implement the changes | Up to three years after final rule for States to implement changes.
|  | Up to three additional years for States to update boat registration.
Temporary certificates,* § 174.21 | Clarify, add HIN as required information, substitute “operated” for “used.” | Per text discussion of HINs. Clarify and modernize/harmonize terminology.
| Allow States up to three years to implement the changes | Up to three years after final rule for States to implement changes.
|  | Up to three additional years for States to update boat registration.
Forwarding of casualty or accident reports, § 174.121 | Add electronic submission option. Change address | Allow for choices in reporting method, align with Federal e-Government initiatives, and update information.
Coast Guard address, § 174.125 | Change address | Update information.
Purpose and applicability, § 181.1 | Clarify that Part 181 has preemptive effect over State or local regulation | Clarification.
Definitions, § 181.3 | Add or revise definitions | Align with substantive changes elsewhere in the proposal.
Hull identification numbers required, § 181.23 | Add new (b) (revise and relocate current language from § 181.31(c)) | Per text discussion of HINs.
| Substitute “agency designated by the issuing authority” for references to the State boating law administrator | Provide flexibility for States to designate, as HIN number assignor, agencies other than the State boating law administrator.
Manufacturer identification code assignment, § 181.31 | Remove (c) (relocated to § 181.23)
How is a State's participation in VIS documented? § 187.11 | Revise section | Per text discussion of administrative flexibility.
What information must be collected to identify a vessel? § 187.103 | Add “of vessel” in (h), and revise (i)-(n) | Clarify (h) and align and modernize/harmonize terminology in (i)-(n).

V. Regulatory Analyses

We developed this proposed rule after considering numerous statutes and executive orders related to rulemaking. Below we summarize our analyses based on 13 of these statutes or executive orders.

A. Regulatory Planning and Review

This proposed rule is not a significant regulatory action under section 3(f) of Executive Order 12866, Regulatory Planning and Review, and does not require an assessment of potential costs and benefits under section 6(a)(3) of that Order. The Office of Management and Budget has not reviewed it under that Order.

A combined “Preliminary Regulatory Analysis and Initial Regulatory Flexibility Analysis” is available in the docket where indicated under the “Public Participation and Request for Comments” section of this preamble. A summary of the analysis follows:

Coast Guard regulations in 33 CFR parts 173 and 174 implement two statutory mandates relating to undocumented vessels equipped with propulsion machinery of any kind. First, the regulations provide for an SNS that assigns unique identification numbers to those vessels, as required by 46 U.S.C. 12302. Second, the regulations provide for the uniform reporting by each State ² of recreational vessel casualty and accident data, as required by 46 U.S.C. 6102. The Coast Guard maintains a Boating Accident Report Database (BARD) that contains this information.

² Throughout the Regulatory Analyses section, “State” refers not only to a State of the United States, but also to the Commonwealth of Puerto Rico, the Virgin Islands, Guam, American Samoa, the Commonwealth of the Northern Mariana Islands, and the District of Columbia.

The Coast Guard is statutorily required to maintain a Vessel Identification System (VIS), which covers not only the undocumented vessels to which SNS applies, but also documented vessels and any vessel titled under State law. VIS comprises a nationwide information system for identifying recreational, commercial, and public vessels that are numbered or titled under the laws of a state or territory. VIS includes information identifying vessels, vessel owners and information to assist law enforcement officials in the investigation of stolen vessels or other legal investigation, such as fraud. That information includes the personally identifiable information required by 46 U.S.C. 12501(a)(2) and (b).

The Coast Guard proposes to amend its rules to promote uniformity between the Standard Numbering System (SNS), the Vessel Identification System (VIS), and Boating Accident Report Database (BARD).

The proposed changes would enhance the capabilities of Federal, State, and local boating safety and law enforcement officials. These proposed changes would result in additional costs and benefits. In general, this rulemaking would:

• Require issuance of a valid HIN to vessels that do not already have one. This would be phased in only as certificates of number are issued or renewed or upon the transfer of a vessel's ownership.

• Align terminology used by SNS, BARD, and VIS to describe recreational vessels and their operation.

• Modernize terminology to reflect statutory usage and current recreational vessel types, operations and equipment. States would have up to three years in which to update their systems to use the newer terminology.

• Require the collection of unique identification information for each vessel owner who applies for an SNS number. States would have up to three years in which to implement this change.

• Provide administrative flexibility for States to designate, as HIN number assignor, agencies other than the State boating law administrator.

We estimate that this proposed rule would affect approximately 12.4 million recreational vessels. The harmonization of terminology and the additional questions on the forms used to collect the data for the SNS would affect all recreational vessels. The harmonization of terminology and the additional questions on the forms used to collect information from boating casualties would affect those recreational vessels involved in boating accidents. There are approximately 5,094 boating accidents annually. Approximately 91 percent of recreational boats affected by this rulemaking appear to be in compliance with the HIN requirement already, leaving 9 percent potentially needing to have the HIN verified or affixed.³

³ We obtained information on boat hull identification numbers from Info-Link, which is the company that administers the Coast Guard's Vessel Identification System.

The implementation of these requirements would begin in the third year of the effective date of the proposed rule, so costs would be incurred during the third year of the period of analysis. There would be a three-year implementation period for requirements from the third year through the fifth year. We estimated the total average costs of this rulemaking over a 10-year period as summarized in Table 1. Costs are presented as undiscounted and discounted estimates.

Table 1—Summary of Costs
[Millions of dollars]
Year | Undiscounted | Discount rate: 7% | Discount rate: 3%
1 | $0.0 | $0.0 | $0.0
2 | 0.0 | 0.0 | 0.0
3 | 16.5 | 13.5 | 15.1
4 | 10.2 | 7.8 | 9.0
5 | 7.9 | 5.6 | 6.8
6 | 3.8 | 2.5 | 3.2
7 | 3.8 | 2.4 | 3.1
8 | 3.8 | 2.2 | 3.0
9 | 3.8 | 2.1 | 2.9
10 | 3.8 | 1.9 | 2.8
Total | 53.6 | 38.0 | 46.0
* Figures may not total due to rounding.

In the initial year of implementation (year 3), we estimate the cost of the rulemaking to be $16.5 million (undiscounted). We estimate the annual recurring costs to be $3.8 million (undiscounted) after the three-year implementation period. We estimate the total present value cost over a 10-year period of analysis to be $38.0 million, discounted at 7 percent, and $46.0 million, discounted at 3 percent.

The main cost driver for this proposed rule is the verification of the HIN by the issuing authority with documentation or visual inspection of the vessel when no proper record of the HIN exists. The issuing authority, usually the State, would have the option to choose the most suitable verification method. For example, some States might require the vessel owner to take the vessel to a specific location for verification, while others might assign personnel to conduct verification at marinas or merely require the vessel owner to file a sworn compliance affidavit. The HIN verification makes up over 90% percent ($15.3 million, non-discounted) of the first-year cost of implementation and over 70% ($2.8 million, non-discounted) of the annual recurring cost after the three-year implementation period of this proposed rule.

In this rulemaking, the Coast Guard is proposing requirements that are intended to improve the information within various databases by increasing the quality of the information and by harmonizing terminology. This enhanced information and subsequent cross-reference between the databases is a benefit that would accrue to all users of these databases. The Coast Guard and other users of the SNS, VIS and BARD information utilize it in their decision-making processes. Sometimes these are decisions made by law enforcement in the field, such as boarding officers, in determining how best to investigate an accident involving a vessel.⁴ The information would also prove useful in decision-making and analysis when it comes to future boating safety rulemakings.

⁴ See the Collection of Information OMB 1625-0108 supporting documentation for further information.

Some of the benefits of the proposed HIN verification may accrue to the boat-owner or other entity associated with the vessel. For example, a verified HIN properly linked to the boat-owner can aid in the return of a stolen vessel.

The “Preliminary Regulatory Analysis and Initial Regulatory Flexibility Analysis” available on the docket provides additional detail on the costs and benefits of this rulemaking. The Coast Guard urges interested parties to submit comments that specifically address the economic impacts of this rulemaking. Comments can be made as indicated in the ADDRESSES section.

B. Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of fewer than 50,000 people.

A combined “Preliminary Regulatory Analysis and Initial Regulatory Flexibility Analysis” discussing the impact of this proposed rule on small entities is available in the docket where indicated under the ADDRESSES section of this preamble. A summary of the analysis follows:

The proposed rule would regulate recreational vessels. Individuals, such as the recreational vessel owners regulated by this rule, are not small entities under the definition of a small entity in the Regulatory Flexibility Act (RFA).⁵

⁵ These are individuals that do not use vessels for commercial purposes.

We estimate that there are potentially 136,209 owners of recreational vessels used for commercial purposes that may be affected by parts of this rulemaking. Of these, there are potentially 12,259 owners of recreational vessels used for commercial purposes that may have to have the HIN of the vessel verified.

Based on available data, we determined that over 90 percent of these entities are small by SBA size standards. We found that small entities affected by this proposed rule were small businesses consisting of owners and operators in the industry categories of engine equipment manufacturing, boat dealers, hotels, business support services and amusement and recreation.

Based on our assessment of the impacts, we determined that all owners or operators affected by this rule would incur an economic impact of less than 1 percent of revenue. At this time, we have determined that this proposed rule would not have a significant economic impact on a substantial number of small entities under section 605(b) of the Regulatory Flexibility Act.

We are interested in the potential impacts from this proposed rule on small businesses and we request public comment on these potential impacts. If you think that your business, organization, or governmental jurisdiction qualifies as a small entity and that this rulemaking would have a significant economic impact on it, please submit a comment to the Docket Management Facility at the address under ADDRESSES. In your comment, explain why, how and to what degree you think this rule would have an economic impact on you.

C. Assistance for Small Entities

Under section 213(a) of the Small Business Regulatory Enforcement Fairness Act of 1996 (Pub. L. 104-121), we want to assist small entities in understanding this proposed rule so that they can better evaluate its effects on them and participate in the rulemaking. If the proposed rule would affect your small business, organization, or governmental jurisdiction and you have questions concerning its provisions or options for compliance, please consult Jeff Ludwig, Office of Auxiliary and Boating Safety, 202-372-1061. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This proposed rule affects three collections of information under the Paperwork Reduction Act of 1995 (44 U.S.C. 3501-3520). It would modify existing Office of Management and Budget (OMB) Collection of Information, OMB Control Number 1625-0003, “Coast Guard Boating Accident Report Form,” OMB Control Number 1625-0070, “Vessel Identification System,” and OMB Control Number 1625-0108, “Standard Numbering System for Undocumented Vessels.”

As defined in 5 CFR 1320.3(c), “collection of information” comprises reporting, recordkeeping, monitoring, posting, labeling, and other, similar actions. The title and description of the information collections, a description of those who must collect the information, and an estimate of the total annual burden follow. The estimate covers the time for reviewing instructions, searching existing sources of data, gathering and maintaining the data needed, and completing and reviewing the collection.

The proposed rule would add to the recordkeeping and reporting requirements of recreational vessel owners and agencies involved in issuing registrations for recreational vessels and reporting boating accidents.

The issuing authority would have to modify the Boating Casualty Report form, modify the Certificate of Number application and, in cases where necessary, verify that a HIN is properly affixed to the vessel and recorded. The owners of recreational vessels would have to answer more questions when they or their vessels are involved in a boating accident and when applying for a Certificate of Number. Owners of recreational vessels that do not have a properly fixed or recorded HIN would have to allow the issuing authorities to verify the HIN.

For additional detail and information on the burden of this proposed rule, see the Preliminary Regulatory Analysis available in the docket as listed under the “Public Participation and Request for Comments” section of this preamble. A summary of each collection amendment and associated burden follows:

Title: Coast Guard Boating Accident Report Form.

OMB Control Number: 1625-0003.

Summary of the Collection of Information: Federal regulations (33 CFR 173.55) require the operator of any vessel that is numbered or used for recreational purposes to submit an accident report to the issuing authority where the accident occurred.

Need for Information: 46 U.S.C. 6102(a) requires a uniform marine casualty reporting system, with regulations prescribing casualties to be reported and the manner of reporting.

Proposed Use of Information: The Coast Guard uses accident data and statistical information received from the current collection to establish National Recreational Boating Safety (RBS) Program goals, objectives, strategies and performance measures; report RBS Program performance to Congress in the performance and budget reports; identify possible manufacturer defects in boats or equipment; develop boat manufacturing standards; develop safe boating education and accident prevention programs; and publish accident statistics in accordance with Title 46 U.S.C. 6102.

Description of Respondents: Operators of recreational boats and governments of States.

Number of Respondents/Reports: The estimated number of respondents is 56, both current and revised. The revised estimated number of reports is 5,094 compared to the current estimate of 5,000. The higher number of reports is based on an increase in the average number of reports, not a programmatic change.

Frequency of Response: On occasion. Specifically, within 30 days of their receipt of a report as prescribed by 33 CFR 174.121 (Forwarding of casualty or accident reports).

Burden of Response: The estimated revised burden is 2,972 hours per year. The current burden is 2,500. There is an estimated 35-minute burden to a respondent for each report filed for an annual estimated burden of 2,972 hours for the estimated 5,094 reports (5,094 reports * 0.583 hours = 2,972 hours).

Title: Vessel Identification System.

OMB Control Number: 1625-0070.

Summary of the Collection of Information: The Coast Guard established a nationwide vessel identification system (VIS) and centralized certain vessel documentation functions. VIS provides participating States with access to data on vessels numbered by States. Participation in VIS is voluntary.

Need for Information: Title 46 U.S.C. 12501 mandates the establishment of a VIS. Title 33 CFR part 187 prescribes the requirements of VIS.

Proposed Use of Information: This information collection supports the strategic goals of the Department of Homeland Security, the Coast Guard and the Marine Safety, Security and Stewardship Directorate (CG-5).

Description of Respondents: Operators of recreational boats and governments of States.

Number of Respondents and Responses: The estimated number of respondents is 56, both revised and current. The revised estimate of the number of responses is 117,671 compared to the current 125,716. The decrease shown above is due to a reduction in the average number of responses and not a programmatic change.

Frequency of Response: Daily.

Burden of Response: The estimated burden has decreased from 5,829 hours to the revised estimate of 5,456 hours a year. Each response is expected to take approximately 3 minutes (117,671 responses * 0.046 hours = 5,456 hours; rounded).

Title: Standard Numbering System for Undocumented Vessels.

OMB Control Number: 1625-0108.

Summary of the Collection of Information: The SNS collects information on undocumented vessels and vessel owners. States submit reports annually to the Coast Guard on the number, size, construction, etc., of the vessels they have numbered. That information is used by the Coast Guard in the publication of an annual “Boating Statistics” report required by 46 U.S.C. 6102(b), and for allocation of Federal funds to assist in carrying out the Recreational Boating Safety (RBS) Program established by 46 U.S.C. Chapter 131.

Need for Information: On a daily basis or as warranted, Federal, State, and local law enforcement personnel use SNS information from the States' numbering systems for enforcement of boating laws or theft and fraud investigations. In addition, when encountering a vessel suspected of illegal activity, information from the SNS increases officer safety by assisting boarding officers in determining how best to approach a vessel.

Proposed Use of Information: Federal, State, and local law enforcement personnel use SNS information from the States' numbering systems for enforcement of boating laws or theft and fraud investigations. The information is used by the Coast Guard for publication of an annual “Boating Statistics” report required by 46 U.S.C. 6102(b) and for allocation of Federal funds to assist States in carrying out the Recreational Boating Safety (RBS) Program established by 46 U.S.C. Chapter 131.

Description of Respondents: Operators of recreational boats and governments of States.

Number of Respondents and Responses: The estimated number of respondents is 56, both revised and current. The revised estimate of the number of responses is 4,644,142 compared to the current 4,333,333.

Frequency of Response: Daily as necessary.

Burden of Response: The revised estimate of the number of burden hours per year is 379,852 compared to the current burden hours of 286,458. There would be an average 5-minute burden per response for each report filed for an annual estimated burden of 379,852 hours for the estimated 4,644,142 responses.

There are no collection costs to the Federal Government for the SNS because States implement the program.

If you submit comments on the collection of information, submit them both to OMB and to the Docket Management Facility as indicated under ADDRESSES, by the date under DATES.

You need not respond to a collection of information unless it displays a currently valid control number from OMB. Before the Coast Guard could enforce the collection of information requirements in this proposed rule, OMB would need to approve the Coast Guard's request to collect this information.

E. Federalism

A rule has implications for federalism under Executive Order 13132, Federalism, if it has a substantial direct effect on State or local governments and would either preempt State law or impose a substantial direct cost of compliance on them. It is well settled that States may not regulate in categories reserved for regulation by the Coast Guard.

The regulations in 33 CFR part 173 subparts A, B, and D, and Part 174 subparts A, B, and D, are issued pursuant to 46 U.S.C. 12301 and 12302 and expressly preempt conflicting State or local regulation.

The regulations in 33 CFR part 173 subpart C and part 174 subpart C are issued pursuant to 46 U.S.C. 6101. 46 U.S.C. 6101 states that “The Secretary shall prescribe regulations on the marine casualties to be reported and the manner of reporting.” The statute requires, among other things, the reporting of the death of an individual, serious injury to an individual, material loss of property, material damage affecting the seaworthiness or efficiency of the vessel, and significant harm to the environment.

The Supreme Court has held that “Congress intended that the Coast Guard regulations be the sole source of a vessel's reporting obligations * * *” and that Coast Guard regulations promulgated pursuant to the authority of 46 U.S.C. 6101 were not intended by Congress “to be cumulative to those enacted by each political subdivision whose jurisdiction a vessel enters.” See the decision of the Supreme Court in the consolidated cases of United States v. Locke and Intertanko v. Locke, 529 U.S. 89, 115-116 (2000). Therefore, the Coast Guard's view is that regulations issued under the authority of 46 U.S.C. 6101 for marine casualty reporting requirements have preemptive effect over State regulation in these fields, except to the extent that Congress requires the Coast Guard to allow State casualty reporting systems pursuant to 46 U.S.C. Chapter 131.

The regulations in 33 CFR part 181 are issued pursuant to 46 U.S.C. 4302. Under 46 U.S.C. 4306, Federal regulations establishing minimum safety standards for recreational vessels and associated equipment, and establishing procedures and tests required to measure conformance with those standards preempt State law, unless the State law is identical to a Federal regulation or a State is specifically provided an exemption to those regulations, or permitted to regulate marine safety articles carried or used to address a hazardous condition or circumstance unique to that State.

The regulations in 33 CFR part 187 are currently issued pursuant to 46 U.S.C. 2103. We are proposing to add 46 U.S.C. 12501 as an additional authority. Because State participation in the VIS is entirely voluntary, the regulations in 33 CFR part 187 do not have preemptive impact over State regulation in this field. However, once electing to participate, a State must comply with the requirements of this part to ensure integrity and uniformity of information in both the SNS and VIS.

The Coast Guard recognizes the key role State and local governments may have in making regulatory determinations. Additionally, sections 4 and 6 of Executive Order 13132 require that for any rules with preemptive effect, the Coast Guard must provide elected officials of affected State and local governments and their representative national organizations the notice and opportunity for appropriate participation in any rulemaking proceedings, and to consult with such officials early in the rulemaking process. Therefore, we invite affected State and local governments and their representative national organizations to indicate their desire for participation and consultation in this rulemaking process by submitting comments to the docket using one of the methods specified under ADDRESSES. In accordance with Executive Order 13132, the Coast Guard will provide a federalism impact statement to document (1) the extent of the Coast Guard's consultation with State and local officials that submit comments to this proposed rule, (2) a summary of the nature of any concerns raised by State or local governments and the Coast Guard's position thereon, and (3) a statement of the extent to which the concerns of State and local officials have been met.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

G. Taking of Private Property

This proposed rule would not effect a taking of private property or otherwise have taking implications under Executive Order 12630, Governmental Actions and Interference with Constitutionally Protected Property Rights.

H. Civil Justice Reform

This proposed rule meets applicable standards in sections 3(a) and 3(b)(2) of Executive Order 12988, Civil Justice Reform, to minimize litigation, eliminate ambiguity, and reduce burden.

I. Protection of Children

We have analyzed this proposed rule under Executive Order 13045, Protection of Children from Environmental Health Risks and Safety Risks. This rule is not an economically significant rule and would not create an environmental risk to health or risk to safety that might disproportionately affect children.

J. Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

K. Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy.

L. Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

M. Environment

We have analyzed this proposed rule under Department of Homeland Security Management Directive 023-01 and Commandant Instruction M16475.lD, which guide the Coast Guard in complying with the National Environmental Policy Act of 1969 (NEPA) (42 U.S.C. 4321-4370f), and have made a preliminary determination that this action is one of a category of actions which do not individually or cumulatively have a significant effect on the human environment. A preliminary environmental analysis checklist supporting this determination is available in the docket where indicated under the “Public Participation and Request for Comments” section of this preamble. This rule involves regulations which are editorial or procedural, such as those updating addresses or establishing application procedures; and regulations concerning manning, documentation, admeasurement, inspection, and equipping of vessels. We seek any comments or information that may lead to the discovery of a significant environmental impact from this proposed rule.

List of Subjects

33 CFR Part 173

Marine safety, Reporting and recordkeeping requirements.

33 CFR Part 174

Intergovernmental relations, Marine safety, Reporting and recordkeeping requirements.

33 CFR Part 181

Labeling, Marine safety, Reporting and recordkeeping requirements.

33 CFR Part 187

Administrative practice and procedure, Marine safety, Reporting and recordkeeping requirements.

For the reasons discussed in the preamble, the Coast Guard proposes to amend 33 CFR parts 173, 174, 181, and 187 as follows:

PART 173—VESSEL NUMBERING AND CASUALTY AND ACCIDENT REPORTING

1. The authority citation for part 173 is revised to read as follows:

Authority: 31 U.S.C. 9701; 46 U.S.C. 2110, 6101, 12301, 12302; OMB Circular A-25; Department of Homeland Security Delegation No. 0170.1.

2. Revise § 173.1 to read as follows:

§ 173.1 Purpose; preemptive effect.

This part prescribes requirements for numbering vessels and for reporting casualties and accidents to implement sections 6101, 6102, 12301, and 12302 of Title 46, United States Code. The regulations in subparts A, B, and D of this part have preemptive effect over conflicting State or local regulation. The regulations in subpart C of this part have preemptive effect over State or local regulation within the same field, except to the extent that Congress requires the Coast Guard to allow State casualty reporting systems pursuant to 46 U.S.C. Chapter 131.

3. Revise § 173.3 to read as follows:

§ 173.3 Definitions.

As used in this part:

Airboat means a vessel that is typically flat-bottomed and propelled by an aircraft-type propeller powered by an engine.

Auxiliary sail means a vessel whose primary method of propulsion is sail but has a secondary means of mechanical propulsion.

Cabin motorboat means a type of vessel propelled by propulsion machinery that provides enclosed spaces inside the structure of the vessel.

Certificate of number means a certificate issued by a State that meets the requirements of 33 CFR 174.19, containing vessel and vessel owner registration information for a vessel that is registered and issued a number in that State.

Houseboat means a motorized vessel that is usually non-planing and designed primarily for multipurpose accommodation spaces with low freeboard and little or no foredeck or cockpit.

Hull identification number or HIN means a serial number that meets the requirements of 33 CFR part 181, subpart C;

Inboard, in the context of an engine, means an engine mounted inside the confines of a vessel which turns a drive shaft that runs through the bottom of the hull and is attached to a propeller or water jet at the other end.

Inflatable boat means a vessel that uses air-filled flexible fabric for buoyancy.

Issuing authority means a State listed in Appendix A of this part as having a numbering system approved by the Coast Guard, or the Coast Guard where a State numbering system has not been approved.

Open motorboat means a type of vessel equipped with propulsion machinery which has an open load carrying area not protected from the entry of water by means of a continuous deck.

Operate means use, navigate, or employ.

Operator means the person who is in control or in charge of a vessel while it is in use.

Outboard, in the context of an engine, means an engine with propeller or water jet integrally attached which is usually mounted at the stern of a vessel.

Owner means a person who claims lawful possession of a vessel by virtue of a legal title or an equitable interest therein, which entitles him to such possession and includes co-owners.

Paddlecraft means a vessel powered only by a craft's occupant(s) using a single or double bladed paddle as a lever without the aid of a fulcrum provided by oarlocks, thole pins, crutches, or similar arrangements.

Permitted event means an organized water event of limited duration which is conducted according to a prearranged schedule and approved by the Coast Guard or by a State that has jurisdiction over the particular body of water on which the event will take place.

Person means an individual, firm, partnership, corporation, company, association, joint-stock association, or governmental entity and includes a trustee, receiver, assignee, or similar representative of any of them.

Personal watercraft means a vessel propelled by a water-jet pump or other machinery as its primary source of motive power which is designed to be operated by a person sitting, standing, or kneeling on the vessel, rather than the conventional manner of sitting or standing within the confines of the hull.

Pod drive means an engine mounted in front of the transom of a vessel and attached through the bottom of the hull to a steerable propulsion unit.

Pontoon boat means a vessel with a broad, flat deck that is affixed on top of closed cylinders which are used for buoyancy, the basic design of which is usually implemented with two rows of floats as a catamaran or with three rows of floats as a trimaran.

Reporting authority means a State listed in Appendix A of this part as having a numbering system approved by the Coast Guard, or the Coast Guard where a numbering system has not been approved.

Rowboat means an open vessel manually propelled by oars.

Sail only means a vessel propelled only by sails.

State means a State of the United States, Guam, the Commonwealth of Puerto Rico, the Virgin Islands, American Samoa, the District of Columbia, the Commonwealth of the Northern Mariana Islands, and any other territory or possession of the United States.

State of principal operation means the State on whose waters a vessel is or will be operated most during a calendar year.

Sterndrive means an engine mounted in front of the transom of a vessel which is attached through the transom to a drive unit that is similar to the lower unit of an outboard. The engine turns a drive shaft that is attached to a propeller at the other end. A sterndrive is also known as an inboard-outdrive or an inboard-outboard.

Towed watersports means any watersports activity that takes place when towed or pulled behind a boat, including, but not limited to, waterskiing, wakeboarding, parasailing, and tubing.

Whitewater boating means any activity with a vessel on Class II and above rapid as determined by the six class International Scale of River Difficulty. This definition applies only to the sections of any river with such rapids and not the entire river.

§ 173.15 [Amended]

4. In § 173.15, remove the words “State in which the vessel is principally used” wherever they occur, and add, in their place, the words “State of principal operation.”

§ 173.19 [Amended]

5. In § 173.19, remove the word “use” and add, in its place, the word “operate.”

§ 173.21 [Amended]

6. In § 173.21(a) introductory text, remove the word “use” and add, in its place, the word “operate,” and in paragraph (a)(1), remove the word “used” and add, in its place, the word “operated.”

§ 173.23 [Amended]

7. In § 173.23, remove the word “using” and add, in its place, the word “operating.”

§ 173.25 [Amended]

8. In § 173.25, remove the word “use” and add, in its place, the word “operate.”

§ 173.33 [Amended]

9. In § 173.33(c), remove the word “used” and add, in its place, the word “operated.”

§ 173.35 [Amended]

10. In § 173.35, remove the word “use” and add, in its place, the word “operate.”

§ 173.51 [Amended]

11. In § 173.51(a) introductory text and (a)(1), remove the word “used” and add, in its place, the word “operated.”

12. Revise § 173.57 to read as follows:

§ 173.57 Contents of report.

(a) Each report required by 33 CFR 173.55 must be in writing, dated upon completion, and signed by the person who prepared it.

(b) Until January 1, [FOURTH YEAR FOLLOWING THE YEAR OF THE EFFECTIVE DATE OF THE FINAL RULE], each report must contain, if available, at least the following information about the casualty or accident:

(1) Numbers and names of each vessel involved;

(2) Name and address of each owner of each vessel involved;

(3) Name of the nearest city or town, the county, the State, and the body of water;

(4) Time and date the casualty or accident occurred;

(5) Location on the water;

(6) Visibility, weather, and water conditions;

(7) Estimated air and water temperatures;

(8) Name, address, age, or date of birth, telephone number, vessel operating experience, and boating safety training of the operator making the report;

(9) Name and address of each operator of each vessel involved;

(10) Number of persons on board or towed on skis by each vessel;

(11) Name, address, and date of birth of each person injured or killed;

(12) Cause of each death;

(13) Weather forecasts available to, and weather reports used by, the operator before and during the use of the vessel;

(14) Name and address of each owner of property involved;

(15) Availability and use of personal flotation devices;

(16) Type and amount of each fire extinguisher used;

(17) Nature and extent of each injury;

(18) Description of all property damage and vessel damage with an estimate of the cost of all repairs;

(19) Description of each equipment failure that caused or contributed to the cause of the casualty;

(20) Description of the vessel casualty or accident;

(21) Type of vessel operation (cruising, drifting, fishing, hunting, skiing, racing, or other), and the type of accident (capsizing, sinking, fire, or explosion or other);

(22) Opinion of the person making the report as to the cause of the casualty, including whether or not alcohol or drugs, or both, was a cause or contributed to causing the casualty;

(23) Make, model, type (open, cabin, house, or other), beam width at widest point, length, depth from transom to keel, horsepower, propulsion (outboard, inboard, inboard outdrive, sail, or other), fuel (gas, diesel, or other), construction (wood, steel, aluminum, plastic, fiberglass, or other), and year built (model year), of the reporting operator's vessel;

(24) Name, address, and telephone number of each witness;

(25) Manufacturer's hull identification number, if any, of the reporting operator's vessel; and

(26) Name, address, and telephone number of the person submitting the report.

(c) Effective January 1, [THE FOURTH YEAR FOLLOWING THE YEAR OF THE EFFECTIVE DATE OF THE FINAL RULE], each report must contain, if available, at least the following information about the casualty or accident:

(1) Numbers and names of each vessel involved;

(2) Name and address of each owner of each vessel involved;

(3) Name of the nearest city or town, the county, the State, and the body of water;

(4) Time and date the incident occurred;

(5) Location on the water;

(6) Visibility, weather, and water conditions;

(7) Estimated air and water temperatures;

(8) Name, address, age or date of birth, telephone number, vessel operating experience, and boating safety training of the operator making the report;

(9) Name and address of each operator of each vessel involved;

(10) Number of persons on board (including people participating in towed watersports);

(11) Name, address, and date of birth of each person injured or killed;

(12) Cause of each death;

(13) Weather forecasts available to, and weather reports used by, the operator before and during the use of the vessel;

(14) Name, address, and telephone number of each owner of property damaged;

(15) Availability and use of personal flotation devices;

(16) Number and type of each fire extinguisher aboard the vessel;

(17) Nature and extent of each injury;

(18) Description of all property damage and vessel damage with an estimate of the cost of all repairs;

(19) Description of each equipment failure that caused or contributed to the cause of the incident;

(20) Description of the incident;

(21) Characteristics of the reporting owner's or operator's vessel, as follows:

(i) Make of vessel;

(ii) Model;

(iii) Model year;

(iv) Manufacturer's hull identification number, if any;

(v) Vessel type: Authorized terms are “open motorboat”, “cabin motorboat”, “air boat”, “inflatable boat”, “auxiliary sail”, “sail only”, “paddlecraft”, “personal watercraft”, “pontoon boat”, “houseboat”, “rowboat”, or “other”;

(vi) Overall length of vessel;

(vii) Horsepower;

(viii) Engine drive type: Authorized terms are “inboard”, “outboard”, “pod drive”, “sterndrive”, or “other”;

(ix) Propulsion type: Authorized terms are “propeller”, “sail”, “water jet”, “air thrust”, “manual”, or “other”;

(x) Fuel: Authorized terms are “gas”, “diesel”, “electric”, or “other”;

(xi) Hull material: Authorized terms are “wood”, “aluminum”, “steel”, “fiberglass”, “plastic”, “rubber/vinyl/canvas”, or “other”;

(22) Operation of vessel at time of incident: Authorized terms are “maintaining course and speed”, “changing course” or “changing speed”;

(23) Activity at time of incident: Authorized terms are “at anchor”, “being towed”, “commercial activity”, “cruising”, “docking/undocking”, “drifting”, “fishing”, “fueling”, “hunting”, “launching”, “making repairs”, “racing”, “rowing/paddling”, “sailing”, “scuba diving/snorkeling”, “starting engine”, “swimming”, “tied to dock/moored”, “towed watersports”, “towing another vessel”, “whitewater boating”, or “other”;

(24) Whether the incident took place during a permitted event (yes or no);

(25) Type of incident: Authorized terms are “capsizing”, “carbon monoxide exposure”, “collision with fixed object”, “collision with floating object”, “collision with vessel”, “electrocution”, “fall on/within a vessel”, “fall overboard”, “fire or explosion (fuel)”, “fire or explosion (other)”, “flooding/swamping”, “grounding”, “person leaves a vessel”, “person ejected from vessel”, “sinking”, “towed watersports mishap”, “struck by vessel”, “struck by propeller or propulsion unit”, “struck submerged object”, or “other”;

(26) Cause of incident, in the opinion of the person making the report, including whether or not alcohol or drugs, or both, was a cause or contributed to causing the incident;

(27) Name, address, and telephone number of each witness; and

(28) Name, address, and telephone number of the person submitting the report.

13. Revise § 173.59 to read as follows:

§ 173.59 Where to report.

The report required by 33 CFR 173.55 must be submitted to the reporting authority, listed in Appendix A of this part, where the casualty or accident occurred.

14. Revise § 173.71 to read as follows:

§ 173.71 Application for and issuance of certificate of number.

(a) The owner of a vessel to which 33 CFR 173.11 applies and for which a certificate of number is required may apply for that certificate to the issuing authority for the vessel's State of principal operation listed in Appendix A of this part. The application must be made in the manner specified by the issuing authority and must be accompanied by payment of any fee required by the issuing authority.

(b) Upon determination that the owner's application for a certificate of number complies with the requirements of paragraph (a) of this section, the issuing authority may issue a certificate of number.

(c) A duplicate certificate of number may be applied for and issued as provided by paragraphs (a) and (b) of this section, upon the owner's statement that the original certificate has been lost or destroyed.

§ 173.73 [Removed]

15. Remove § 173.73.

§ 173.77 [Amended]

16. In § 173.77(d), remove the word “used” and add, in its place, the word “operated”.

Appendix A [Amended]

17. In Appendix A to Part 173, in paragraph (c), remove the word “use” and add, in its place, the word “operation”.

PART 174—STATE NUMBERING AND CASUALTY REPORTING SYSTEMS

18. The authority citation for part 174 continues to read as follows:

Authority: 46 U.S.C. 6101 and 12302; Department of Homeland Security Delegation No. 0170.1(92).

19. Revise § 174.1 to read as follows:

§ 174.1 Applicability; preemptive effect.

This part establishes a standard numbering system for vessels and a uniform vessel casualty reporting system for vessels by prescribing requirements applicable to the States for approval of State numbering systems. The regulations in subparts A, B, and D of this part have preemptive effect over conflicting State or local regulation. The regulations in subpart C of this part have preemptive effect over State or local regulation within the same field, except to the extent that Congress requires the Coast Guard to allow State casualty reporting systems pursuant to 46 U.S.C. Chapter 131.

20. Revise § 174.3 to read as follows:

§ 174.3 Definitions.

As used in this part:

Airboat means a vessel that is typically flat-bottomed and propelled by an aircraft-type propeller and powered by an engine.

Auxiliary sail means a vessel whose primary method of propulsion is sail but has a secondary means of mechanical propulsion.

Cabin motorboat means a type of vessel propelled by propulsion machinery that provides enclosed spaces inside the structure of the vessel.

Certificate of number means a certificate issued by a State that meets the requirements of 33 CFR 174.19, containing vessel and vessel owner registration information for a vessel that is registered and issued a number in that State.

Charter fishing means a vessel carrying a passenger(s) for hire who is (are) engaged in recreational fishing.

Commercial fishing means a vessel that commercially engages in the catching, taking, or harvesting of fish which, either in whole or in part, is intended to enter commerce through sale, barter or trade.

Houseboat means a motorized vessel that is usually non-planing and designed primarily for multipurpose accommodation spaces with low freeboard and little or no foredeck or cockpit.

Hull identification number or HIN means a serial number that meets the requirements of 33 CFR part 181, subpart C.

Inboard, in the context of an engine, means an engine mounted inside the confines of a vessel which turns a drive shaft that runs through the bottom of the hull and is attached to a propeller or water jet at the other end.

Inflatable boat means a vessel that uses air-filled flexible fabric for buoyancy.

Open motorboat means a type of vessel equipped with propulsion machinery which has an open load carrying area not protected from the entry of water by means of a continuous deck.

Operator means the person who is in control or in charge of a vessel while it is in use.

Outboard, in the context of an engine, means an engine with propeller or water jet integrally attached, which is usually mounted at the stern of a vessel.

Owner means a person who claims lawful possession of a vessel by virtue of a legal title or an equitable interest therein, which entitles him to such possession and includes co-owners.

Paddlecraft means a vessel powered only by a craft's occupant(s) using a single or double bladed paddle as a lever without the aid of a fulcrum provided by oarlocks, thole pins, crutches or similar arrangements.

Person means an individual, firm, partnership, corporation, company, association, joint-stock association, or governmental entity and includes a trustee, receiver, assignee, or similar representative of any of them.

Personal watercraft means a vessel propelled by a water-jet pump or other machinery as its primary source of motive power which is designed to be operated by a person sitting, standing, or kneeling on the vessel, rather than the conventional manner of sitting or standing within the confines of the hull.

Pod drive means an engine mounted in front of the transom of a vessel and attached through the bottom of the hull to a steerable propulsion unit.

Pontoon boat means a vessel with a broad, flat deck that is affixed on top of closed cylinders which are used for buoyancy, the basic design of which is usually implemented with two rows of floats as a catamaran or with three rows of floats as a trimaran.

Reporting authority means a State listed in 33 CFR part 173, Appendix A, as having a numbering system approved by the Coast Guard, or the Coast Guard where a numbering system has not been approved.

Rowboat means an open vessel manually propelled by oars.

Sail only means a vessel propelled only by sails.

State means a State of the United States, Guam, the Commonwealth of Puerto Rico, the Virgin Islands, American Samoa, the District of Columbia, the Commonwealth of the Northern Mariana Islands, and any other territory or possession of the United States.

State of principal operation means the State in whose waters a vessel is or will be operated most during a calendar year.

Sterndrive means an engine mounted in front of the transom of a vessel which is attached through the transom to a drive unit that is similar to the lower unit of an outboard. The engine turns a drive shaft that is attached to a propeller at the other end. A sterndrive is also known as an inboard-outdrive or an inboard-outboard.

21. Add new § 174.16 to read as follows:

§ 174.16 Verification of hull identification number.

(a) As used in this section, “action” means an action by an issuing authority listed in 33 CFR part 173, Appendix A, to issue, renew, or update the ownership information for a certificate of number under this part.

(b) Effective [DATE 3 YEARS FROM EFFECTIVE DATE OF FINAL RULE], before taking any action relating to a vessel imported or manufactured on or after November 1, 1972, the issuing authority must determine whether the vessel has a HIN meeting the requirements of 33 CFR part 181, subpart C.

(c) If, pursuant to paragraph (b) of this section, the issuing authority determines that the vessel does not have a HIN meeting the requirements of 33 CFR part 181, subpart C, then before taking any action the issuing authority must:

(1) Assign such a HIN to the vessel; and

(2) Require the owner to make the vessel available to a representative of the issuing authority's State so that the representative can permanently affix the HIN to the vessel in compliance with 33 CFR part 181, subpart C.

22. Revise § 174.17 to read as follows:

§ 174.17 Contents of application for certificate of number.

(a) An application for a certificate of number must contain the following information:

(1) Name of owner;

(2) Address of owner;

(3) Owner identifier, which must be the owner's tax identification number; date of birth together with driver's license number; or other unique number;

(4) [Reserved]

(5) State of principal operation;

(6) Number previously issued by an issuing authority;

(7) Application type: Authorized terms are “new number”, “renewal of number”, or “transfer of ownership”;

(8) Primary operation: Authorized terms are “pleasure”, “rent or lease”, “dealer or manufacturer demonstration”, “charter fishing”, “commercial fishing”, “commercial passenger carrying”, or “other commercial operation”;

(9) Make and model of vessel;

(10) Model year;

(11) Hull identification number, if any;

(12) Overall length of vessel;

(13) Vessel type: Authorized terms are “open motorboat”, “cabin motorboat”, “air boat”, “inflatable boat”, “auxiliary sail”, “sail only”, “paddlecraft”, “personal watercraft”, “pontoon boat”, “houseboat”, “rowboat”, or “other”;

(14) Hull material: Authorized terms are “wood”, “aluminum”, “steel”, “fiberglass”, “plastic”, “rubber/vinyl/canvas”, or “other”;

(15) Propulsion type: Authorized terms are “propeller”, “sail”, “water jet”, “air thrust”, “manual”, or “other”;

(16) Engine drive type: Authorized terms are “inboard”, “outboard”, “pod drive”, “sterndrive”, or “other”;

(17) Fuel: Authorized terms are “gas”, “diesel”, “electric”, or “other”; and

(18) Signature of the owner.

(b)(1) An application made by a manufacturer or dealer for a number that is to be temporarily affixed to a vessel for demonstration or test purposes may omit the information under paragraphs (a)(9) through (a)(17) of this section.

(2) An application made by an owner of a vessel without propulsion machinery may omit the information under paragraphs (a)(16) and (a)(17) of this section.

(c) For an issuing authority listed in 33 CFR part 173, Appendix A on [EFFECTIVE DATE OF FINAL RULE], the requirements of paragraphs (a) and (b) of this section apply on [DATE 3 YEARS FROM EFFECTIVE DATE OF FINAL RULE]. Between [EFFECTIVE DATE OF FINAL RULE] and [DATE 3 YEARS FROM EFFECTIVE DATE OF FINAL RULE], the issuing authority may continue to accept applications containing the contents required by that reporting authority prior to [EFFECTIVE DATE OF FINAL RULE].

23. Revise § 174.19 to read as follows:

§ 174.19 Contents of a certificate of number.

(a) Except as allowed in paragraph (b) of this section, each certificate of number must contain the following information:

(1) Number issued to the vessel;

(2) Expiration date of the certificate;

(3) State of principal operation;

(4) Name of owner;

(5) Address of owner;

(6) Primary operation: Includes pleasure, rent or lease, dealer or manufacturer demonstration, charter fishing, commercial fishing, commercial passenger carrying, or other commercial operation;

(7) Hull identification number, if any;

(8) Make and model of vessel;

(9) Model year;

(10) Overall length of vessel;

(11) Vessel type: Includes open motorboat, cabin motorboat, air boat, inflatable boat, auxiliary sail, sail only, paddlecraft, personal watercraft, pontoon boat, houseboat, rowboat, or “other”;

(12) Hull material: Includes wood, aluminum, steel, fiberglass, plastic, rubber/vinyl/canvas, or “other”;

(13) Propulsion type: Includes propeller, sail, water jet, air thrust, manual, or “other”;

(14) Engine drive type: Includes inboard, outboard, pod drive, sterndrive, or “other”; and

(15) Fuel: Includes gas, diesel, electric, or “other.”

(b)(1) A certificate of number issued to a manufacturer or dealer for use on a vessel for test or demonstration purposes may omit the information under paragraphs (a)(7) through (a)(15) of this section if the word “manufacturer” or “dealer” is plainly marked on the certificate.

(2) A certificate of number issued for a vessel without propulsion machinery may omit paragraphs (a)(14) and (a)(15) of this section if the words “manual vessel” are plainly marked on the certificate.

(3) An issuing authority may print on the certificate of number a quotation of State boating regulations or other boating-related information, such as safety reminders, or registration or law enforcement contact information.

(c) For an issuing authority listed in Appendix A of this part on [EFFECTIVE DATE OF FINAL RULE], the requirements of paragraphs (a) and (b) of this section apply on [DATE 3 YEARS FROM EFFECTIVE DATE OF FINAL RULE]. Between [EFFECTIVE DATE OF FINAL RULE] and [DATE 3 YEARS FROM EFFECTIVE DATE OF FINAL RULE], the issuing authority may continue to issue certificates of number containing the contents in effect on [EFFECTIVE DATE OF FINAL RULE].

24. Revise § 174.21 to read as follows:

§ 174.21 Temporary certificates.

(a) An issuing authority may issue a temporary certificate of number, valid for no more than 60 days from its date of issuance.

(b) Each temporary certificate must contain the following information:

(1) Vessel's hull identification number, if any;

(2) Make of vessel;

(3) Length of vessel;

(4) Type of propulsion;

(5) State in which vessel is principally operated;

(6) Name of owner;

(7) Address of owner, including ZIP code;

(8) Signature of owner;

(9) Date of issuance; and

(10) Notice to the owner that the temporary certificate is valid for the time it specifies, not to exceed 60 days from the date of issuance.

(c) For an issuing authority listed in 33 CFR part 173, Appendix A on [EFFECTIVE DATE OF FINAL RULE], the requirements of paragraph (b) of this section apply on [DATE 3 YEARS FROM EFFECTIVE DATE OF FINAL RULE]. Between [EFFECTIVE DATE OF FINAL RULE] and [DATE 3 YEARS FROM EFFECTIVE DATE OF FINAL RULE], the issuing authority may continue to issue temporary certificates containing the contents in effect on [EFFECTIVE DATE OF FINAL RULE].

25. Revise § 174.121 to read as follows:

§ 174.121 Forwarding of casualty or accident reports.

Within 30 days of the receipt of a casualty or accident report, the reporting authority receiving the report must forward a paper or electronic copy of that report to the Commandant (CG-5422), U.S. Coast Guard, 2100 Second Street, SW., Stop 7581, Washington, DC 20593-7581.

26. Revise § 174.125 to read as follows:

§ 174.125 Coast Guard address.

The report required by 33 CFR 174.123 must be sent to the Commandant (CG-5422), U.S. Coast Guard, 2100 Second Street, SW., Stop 7581, Washington, DC 20593-7581.

PART 181—MANUFACTURER REQUIREMENTS

27. The authority citation for part 181 is revised to read as follows:

Authority: 46 U.S.C. 4302; Department of Homeland Security Delegation No. 0170.1 (92).

28. Revise § 181.1 to read as follows:

§ 181.1 Purpose and applicability; preemptive effect.

This part prescribes requirements for the certification of boats and associated equipment and identification of boats to which 46 U.S.C. Chapter 43 applies. The regulations in this part have the preemptive effect described in 46 U.S.C. 4306.

29. In § 181.3, revise the definition for “Manufacturer” and add, in alphabetical order, a definition for “State” to read as follows:

§ 181.3 Definitions.

* * * * *

Manufacturer means any person engaged in:

(1) The manufacture, construction, or assembly of boats or associated equipment; or

(2) The importation into the United States of boats, associated equipment, or components thereof.

* * * * *

State means a State of the United States, Guam, the Commonwealth of Puerto Rico, the Virgin Islands, American Samoa, the District of Columbia, the Commonwealth of the Northern Mariana Islands, and any other territory or possession of the United States.

30. Revise § 181.23 to read as follows:

§ 181.23 Hull identification numbers required.

(a) A manufacturer, as defined in § 181.3 of this part, must identify each boat produced or imported with two hull identification numbers (HIN) that meet the requirements of this subpart:

(1) A primary HIN affixed in accordance with §§ 181.29(a) and (c) of this subpart; and

(2) A duplicate HIN affixed in accordance with §§ 181.29(b) and (c) of this subpart.

(b) A person who manufactures or imports a boat for his or her own use and not for sale must obtain the required hull identification number in accordance with the requirements of the issuing authority listed in 33 CFR part 173, Appendix A for the boat's State of principal operation, as defined in 33 CFR 173.3, and make the boat available to a representative of the issuing authority who will permanently affix the HINs.

(c) No person may assign the same HIN to more than one boat.

31. Revise § 181.31 to read as follows:

§ 181.31 Manufacturer identification code assignment.

(a) Each person required by 33 CFR 181.23(a) to affix hull identification numbers must request a manufacturer identification code in writing from the Commandant (CG-54223), 2100 Second Street, SW., Stop 7581, Washington, DC 20593-7581. The request must indicate the manufacturer's name and U.S. address along with the general types and lengths of boats that will be manufactured.

(b) For boats manufactured outside of the jurisdiction of the United States, a U.S. importer must obtain a manufacturer identification code as required by paragraph (a) of this section. The request must indicate the importer's name and U.S. address along with a list of the manufacturers, their addresses, and the general types and sizes of boats that will be imported. If a nation has a hull identification number system which has been accepted by the Coast Guard for the purpose of importing boats, it may be used by the importer instead of the one specified within this subpart. To request a list of those nations having such a numbering system, write to the Commandant (CG-54223), 2100 Second Street, SW., Stop 7581, Washington, DC 20593-7581.

PART 187—VESSEL IDENTIFICATION SYSTEM

32. The authority citation for part 187 is revised to read as follows:

Authority: 46 U.S.C. 2103, 12501; Department of Homeland Security Delegation No. 0170.1 (92).

33. Revise § 187.11 to read as follows:

§ 187.11 What are the procedures to participate in VIS?

(a) A State wanting to participate in VIS must inform the Commandant, in writing, describing its willingness and ability to comply with each requirement of 33 CFR 187.201. If the Commandant is satisfied that the State will comply fully with 33 CFR 187.201, the State will be allowed to participate in VIS and will be listed in Appendix A to this part, for so long as the Commandant determines that the State complies fully with 33 CFR 187.201.

(b) A State wanting to participate in VIS, but unable to comply with one or more requirements of 33 CFR 187.201, may participate in VIS under one or more waivers, for good cause shown. For purposes of this section, “good cause” includes the existence of State law prohibiting full compliance. A State wanting to participate in VIS under one or more waivers:

(1) So informs the Commandant, in writing;

(2) Describes the requirement or requirements for which waiver is sought, and the good cause for noncompliance; and

(3) Describes the steps the State intends to take to remove the good cause and the anticipated time needed to do so.

(c) The Commandant may allow a State to participate in VIS under one or more waivers, pursuant to a memorandum of agreement between the Coast Guard and the State.

(1) The memorandum of agreement recites the information provided by the State under paragraph (b) of this section, and is valid for not more than three years, during which time the State will be deemed to participate in VIS and be listed in Appendix A to this part.

(2) The State may withdraw from the memorandum of agreement and participation in VIS upon written notice to the Commandant. The Commandant may terminate the memorandum of agreement and the State's participation in VIS for noncompliance with the terms of the memorandum.

(3) Participation in VIS under one or more waivers beyond the term of the initial memorandum of agreement requires a new memorandum.

(4) If the good cause for waivers is eliminated within the term of the memorandum of agreement, the State may so inform the Commandant in writing. The Commandant may then consider the State to participate in VIS under paragraph (a) of this section.

34. Revise § 187.103 to read as follows:

§ 187.103 What information must be collected to identify a vessel?

A participating State must collect the following information on a vessel it has numbered or titled and make it available to VIS:

(a) Manufacturer's hull identification number, if any;

(b) Official number, if any, assigned by the Coast Guard or its predecessor;

(c) Number on certificate of number assigned by the issuing authority of the State;

(d) Expiration date of certificate of number;

(e) Number previously issued by an issuing authority;

(f) Make and model of vessel;

(g) Model year: Includes model year, manufacture year, or year built;

(h) Overall length;

(i) Vessel type: Authorized terms are “open motorboat”, “cabin motorboat”, “air boat”, “inflatable boat”, “auxiliary sail”, “sail only”, “paddlecraft”, “personal watercraft”, “pontoon boat”, “houseboat”, “rowboat”, or “other”;

(j) Hull material: Authorized terms are “wood”, “aluminum”, “steel”, “fiberglass”, “plastic”, “rubber/vinyl/canvas”, or “other”;

(k) Propulsion type: Authorized terms are “propeller”, “sail”, “water jet”, “air thrust”, “manual”, or “other”;

(l) Engine drive type: Authorized terms are “inboard”, “outboard”, “pod drive”, “sterndrive”, or “other”;

(m) Fuel: Authorized terms are “gas”, “diesel”, “electric”, or “other”; and

(n) Primary use: Authorized terms are “pleasure”, “rent or lease”, “dealer or manufacturer demonstration”, “charter fishing”, “commercial fishing”, “commercial passenger carrying”, or “other commercial operation”.

Dated: May 3, 2010.
Kevin S. Cook,
Rear Admiral, U.S. Coast Guard, Director of Prevention Policy.

[FR Doc. 2010-10723 Filed 5-6-10; 8:45 am]

BILLING CODE 9110-04-P